SMALL BUSINESS ADMINISTRATION

National Small Business Development Center Advisory Board; Public Meeting

The U.S. Small Business Administration, National Small Business Development Center Advisory Board will be hosting a public meeting via conference call to discuss such matters that may be presented by members, staff of the U.S. Small Business Administration, or interested others. The conference call will be held on Tuesday, March 20, 2007 at 1 p.m. Eastern Standard Time.

The purpose of the meeting is to discuss the internal Board issues; the March 5th agency meeting with senior program management; the Association of Small Business Development Center (ASBC) Board March meeting; and congressional visits conducted by board members.

Anyone wishing to make an oral presentation to the Board must contact Erika Fischer, Senior Program Analyst, U.S. Small Business Administration, Office of Small Business Development Centers, 409 3rd Street, SW., Washington, DC 20416, telephone (202) 205-7045 or fax (202) 481-0681.

Matthew Teague,
Committee Management Officer.

[FR Doc. E7-3812 Filed 3-5-07; 8:45 am]

BILLING CODE 8025-01-P